DEPARTMENT OF COMMERCE

National Oceanic and Atmospheric Administration

RIN 0648-XY15

New England Fishery Management Council; Public Meeting

AGENCY: National Marine Fisheries Service (NMFS), National Oceanic and Atmospheric Administration (NOAA), Commerce.

ACTION: Notice; public meeting.

SUMMARY: The New England Fishery Management Council's (Council) Herring Oversight Committee will meet to consider actions affecting New England fisheries in the exclusive economic zone (EEZ).

DATES: The meeting will be held on Wednesday, September 1, 2010 at 9:30 a.m. and Thursday September 2, 2010 at 9 a.m.

ADDRESSES: Meeting address: The meeting will be held at the Sheraton Harborside Hotel, 250 Market Street, Portsmouth, NH 03801: Telephone: (603) 431-2300; Fax: (603) 433-5649.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

1. Wednesday, September 1, 2010 beginning at 9:30 a.m.

The Committee will review/discuss report from Herring Advisory Panel. They will also continue development of catch monitoring alternatives for inclusion in Amendment 5 to the Atlantic Herring Fishery Management Plan (FMP); alternatives may include management measures to: improve quota monitoring and reporting; standardize/certify volumetric measurements of catch; address vessel-to-vessel transfers of Atlantic herring; address requirements for catch monitoring and control plans (CMCPs); address maximized retention; maximize sampling and address net slippage; address at-sea monitoring; address portside sampling; require electronic monitoring; and address other elements of catch monitoring in the Atlantic herring fishery. Other business may also be discussed.

2. Thursday, September 2, 2010 beginning at 9 a.m.

The Committee will continue agenda from September 1, 2010 meeting to develop catch monitoring alternatives for inclusion in Amendment 5; discuss outstanding issues and other elements of Amendment 5. They will also develop management measures and alternatives to address river herring bycatch for consideration in Amendment 5. They will review/discuss management measures under consideration to address interactions with the mackerel fishery. The Committee will develop recommendations for Council consideration regarding management alternatives for inclusion in Amendment 5 Draft EIS (catch monitoring program, measures to address river herring bycatch, access to groundfish closed areas, interactions with the mackerel fishery, protection of spawning fish). Other business may be discussed.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: August 10, 2010.
Tracey L. Thompson,
Acting Director, Office of Sustainable Fisheries, National Marine Fisheries Service.

[FR Doc. 2010-19992 Filed 8-12-10; 8:45 am]

BILLING CODE 3510-22-S